DEPARTMENT OF THE TREASURY

Submission for OMB Review; Comment Request

April 18, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 28, 2002 to be assured of consideration.

Internal Revenue Service (IRS)

OMB Number: 1545-1.

Regulation Project Number: REG-209106-89 (formerly EE-84-89) NPRM.

Type of Review: Extension.

Title: Changes With Respect to Prizes and Awards and Employee Achievement Awards.

Description: This regulation requires recipients of prizes and awards to maintain records to determine whether a qualifying designation has been made. The affected public are prize and award recipients who seek to exclude the cost of a qualifying prize or award.

Respondents: Individuals or households.

Estimated Number of Respondents: 5,100.

Estimated Burden Hours Per Respondent: 15 minutes.

Frequency of Response: On occasion.

Estimated Total Reporting Burden: 1,275 hours.

OMB Number: 1545-1375.

Regulation Project Number: IA-5-92 Final.

Type of Review: Extension.

Title: Carryover of Passive Activity Losses and Credits and At Risk Losses to Bankruptcy Estates of Individuals.

Description: These regulations provide for a joint election to have the regulations apply to certain bankruptcy cases. In a chapter 7 case, the written consent of the trustee must be obtained. In a chapter 11 case, the election must be in the reorganization plan or in a court order.

Respondents: Individuals or households.

Estimated Number of Respondents: 600,000.

Estimated Burden Hours Per Respondent: 1 hour.

Frequency of Response: Annually.

Estimated Total Reporting Burden: 600,000 hours.

OMB Number: 1545-1393.

Regulation Project Number: EE-14-81 NPRM.

Type of Review: Extension.

Title: Deductions and Reductions in Earnings and Profits (or Accumulated Profits) With Respect to Certain Foreign Deferred Compensation Plans Maintained by Certain Foreign Corporations or by foreign Branches of Domestic Corporations.

Description: The regulation provides guidance regarding the limitations on deductions and adjustments to earnings and profits (or accumulated profits) for certain foreign deferred compensation plans. Respondents will be multinational corporations.

Respondents: Business or other for-profit.

Estimated Number of Respondents/Recordkeepers: 1,250.

Estimated Burden Hours Per Respondent/Recordkeeper: 508 hours.

Frequency of Response: On occasion.

Estimated Total Reporting/Recordkeeping Burden: 634,450 hours.

OMB Number: 1545-1409.

Form Number: IRS Form 8842.

Type of Review: Extension.

Title: Election To Use Different Annualization Periods for Corporate Estimated Tax.

Description: Form 8842 is used by corporations (including S corporations), tax-exempt organizations subject to the unrelated business income tax, and private foundations to annual elect the use of annualization period in section 6655(e)(2)(c)(i) or (ii) for purposes of figuring the corporation's estimated tax payments under the annualized income installment method.

Respondents: Business or other for-profit.

Estimated Number of Respondents/Recordkeepers: 1,700.

Estimated Burden Hours Per Respondent/Recordkeeper:

Recordkeeping | 1 hr., 54 min.
Learning about the law or the form | 18 min.
Preparing and sending the form to the IRS | 20 min.

Frequency of Response: Annually.

Estimated Total Reporting/Recordkeeping Burden: 4.335 hours.

OMB Number: 1545-1435.

Regulation Project Number: EE-5-93.

Type of Review: Extension.

Title: Electronic Filing of Form W-4.

Description: Information is required by the Internal Revenue Service to verify compliance with section 31.3402(f)(2)-1(g)(1), which requires submission to the Service of certain withholding exemption certificates. The affected respondents are employers that choose to make electronic filing of Forms W-4 available to their employees.

Respondents: Business or other for-profit, Not-for-profit institutions, Federal Government, State, Local or Tribal Government.

Estimated Number of Respondents: 2,000.

Estimated Burden Hours Per Respondent: 20 hours.

Frequency of Response: On occasion.

Estimated Total Reporting Burden: 40,000 hours.

OMB Number: 1545-1477.

Regulation Project Number: EE-34-95 Final.

Type of Review: Extension.

Title: Notice of Significant Reduction in the Rate of Future Benefit Accrual.

Description: In order to protect the rights of participants in qualified pension plans, plan administrators must provide notice to plan participants and other parties, if the plan is amended in a particular manner. No government agency receives the information.

Respondents: Business or other for-profit.

Estimated Number of Respondents: 3,000.

Estimated Burden Hours Per Respondent: 5 hours.

Frequency of Response: Other (once).

Estimated Total Reporting Burden: 15,000 hours.

OMB Number: 1545-1633.

Regulation Project Number: REG-209121-89 Final.

Type of Review: Extension.

Title: Certain Asset Transfers to a Tax-Exempt Entity.

Description: The written representation requested from a tax-exempt entity in regulations section 1.337(d)-4(b)(1)(A) concerns its plans to use assets received from a taxable corporation in a taxable unrelated trade or business. The taxable corporation is not taxable on gain if the assets are used in a taxable unrelated trade or business.

Respondents: Business or other for-profit, Not-for-profit institutions.

Estimated Number of Respondents: 25.

Estimated Burden Hours Per Respondent: 5 hours.

Frequency of Response: Other (once).

Estimated Total Reporting Burden: 125 hours.

OMB Number: 1545-1641.

Revenue Procedure Number: Revenue Procedure 99-17.

Type of Review: Extension.

Title: Mark to Market Election for Commodities Dealers and Securities and Commodities Traders.

Description: The revenue procedure prescribes the time and manner for dealing in commodities and traders in securities or commodities to elect to use the mark-to-market method of accounting under § 475(e) or (f) of the Internal Revenue Code. The collections of information in sections 5 and 6 of this revenue procedure are required by the IRS in order to facilitate monitoring taxpayers changing accounting methods resulting from making the elections under § 475(e) or (f).

Respondents: Business or other for-profit.

Estimated Number of Respondents/Recordkeepers: 1,000.

Estimated Burden Hours Per Respondent/Recordkeeper: 30 minutes.

Frequency of Response: Other (one time).

Estimated Total Reporting/Recordkeeping Burden: 500 hours.

OMB Number: 1545-1650.

Regulation Project Number: REG-208156-91 Final.

Type of Review: Extension.

Title: Accounting for Long-Term Contracts.

Description: The information collected in required to notify the Commissioner of a taxpayer's decision to sever or aggregate one or more long-term contracts under the regulations. The statement is needed so the Commission can determine whether the taxpayer properly severed or aggregated its contract(s). The regulations affect any taxpayer that manufactures or constructs property under long-term contracts.

Respondents: Business or other for-profit, Individuals or households.

Estimated Number of Respondents: 50,000.

Estimated Burden Hours Per Respondent: 15 minutes.

Frequency of Response: On occasion.

Estimated Total Reporting Burden: 12,500 hours.

Clearance Officer: Glenn Kirkland, Internal Revenue Service, Room 6411-03, 1111 Constitution Avenue, NW, Washington, DC 20224.

OMB Reviewer: Alexander T. Hunt, (202) 395-7860, Office of Management and Budget, Room 10202, New Executive Office Building, Washington, DC 20503.

Lois K. Holland,
Departmental Reports, Management Officer.

[FR Doc. 02-10118 Filed 4-24-02; 8:45 am]

BILLING CODE 4830-01-P